DEPARTMENT OF TRANSPORTATION

Federal Aviation Administration

[Docket No. FAA-2023-2246]

Agency Information Collection Activities: Requests for Comments; Clearance of a Renewed Approval of Information Collection: Means of Compliance, Declarations of Compliance, and Labeling Requirements for Unmanned Aircraft With Remote Identification

AGENCY: Federal Aviation Administration (FAA), DOT.

ACTION: Notice and request for comments.

SUMMARY: In accordance with the Paperwork Reduction Act of 1995, FAA invites public comments about our intention to request the Office of Management and Budget (OMB) approval to renew an information collection. The collection involves information necessary to submit a Means of Compliance or Declaration of Compliance for Unmanned Aircraft with Remote Identification to the FAA. The collection also involves information necessary to label Unmanned Aircraft that have an FAA-accepted Declaration of Compliance. The information to be collected will be used by the FAA to determine compliance with the requirements for submission of a Means of Compliance or Declaration of Compliance, as well as determine compliance with the Unmanned Aircraft labeling requirements.

DATES: Written comments should be submitted by January 22, 2024.

ADDRESSES: Please send written comments:

By Electronic Docket: www.regulations.gov (Enter docket number into search field)

By mail: Benjamin Walsh, FAA Flight Standards Service, Emerging Technologies Division, AFS-700, 800 Independence Ave. SW, Washington, DC 20591

By fax: 202-267-8233

FOR FURTHER INFORMATION CONTACT: Benjamin Walsh by email at: ben.walsh@faa.gov; phone: 202-267-8233

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0781.

Title: Means of Compliance, Declarations of Compliance, and Labeling Requirements for Unmanned Aircraft with Remote Identification.

Form Numbers: N/A.

Type of Review: Renewal of an information collection.

Background: Regulations for the Remote Identification of Unmanned Aircraft were published on January 15, 2021, and are contained in 14 Code of Federal Regulations (14 CFR), part 89. Requirements for the means of compliance are in part 89, subpart E, while requirements for the declaration of compliance and unmanned aircraft labeling are in part 89, subpart F.

Means of Compliance

The FAA requires any person who develops a means of compliance for the production of a standard remote identification unmanned aircraft or remote identification broadcast module to submit those means of compliance for review and acceptance by the FAA. The means of compliance must include testing and validation procedures for producers to demonstrate through analysis, ground test, or flight test, as appropriate, how the standard remote identification unmanned aircraft or remote identification broadcast module perform their intended functions and how they meet the remote identification requirements of the final rule.

To request acceptance of a means of compliance, a person is required to submit the following information to the FAA at 9-AVS-AIR-UASMOC@faa.gov:

(1) The name of the person or entity submitting the means of compliance, the name of the main point of contact for communications with the FAA, the physical address, email address, and other contact information.

(2) A detailed description of the means of compliance.

(3) An explanation of how the means of compliance addresses all of the minimum performance requirements in the rule so that any standard remote identification unmanned aircraft or remote identification broadcast module designed and produced in accordance with such means of compliance meets the remote identification requirements.

(4) Any substantiating material the person wishes the FAA to consider as part of the request.

The FAA will indicate acceptance of a means of compliance by notifying the submitter of the acceptance of the submitted means of compliance. The FAA also expects to notify the public that it has accepted the means of compliance by including it on a list of accepted means of compliance at https://uasdoc.faa.gov. The FAA will not disclose commercially sensitive information in this notice. It will only provide general information stating that FAA has accepted the means of compliance. The FAA may disclose non-proprietary broadcast specification and radio frequency spectrum so that sufficient information is available to develop receiving and processing equipment and software for the FAA, law enforcement, and members of the public.

A person who submits a means of compliance that is accepted by the FAA is required to retain the following data for as long as the means of compliance is accepted plus an additional 24 calendar months: (1) all documentation and substantiating data submitted to the FAA for the acceptance of the means of compliance; (2) records of all test procedures, methodology, and other procedures, as applicable; and (3) any other information necessary to justify and substantiate how the means of compliance enables compliance with the remote identification requirements imposed by the FAA.

Declarations of Compliance

The FAA has a website and online form at https://uasdoc.faa.gov for the submission of declarations of compliance. The following information must be included in a producer's declaration of compliance:

(1) The name, physical address, telephone number, and email address of the person responsible for production of the standard remote identification unmanned aircraft or remote identification broadcast module.

(2) The standard remote identification unmanned aircraft or remote identification broadcast module make and model.

(3) The standard remote identification unmanned aircraft or remote identification broadcast module serial number, or the range of serial numbers for which the person responsible for production is declaring compliance.

(4) The FCC Identifier of the 47 CFR part 15-compliant radio frequency equipment used and integrated into the standard remote identification unmanned aircraft or the remote identification broadcast module.

(5) The means of compliance used in the design and production of the standard remote identification unmanned aircraft or remote identification broadcast module.

(6) Whether the declaration of compliance is an initial declaration or an amended declaration, and if the declaration of compliance is an amended declaration, the reason for the amendment.

(7) A declaration that the person responsible for the production of the standard remote identification unmanned aircraft or remote identification broadcast module can demonstrate that the standard remote identification unmanned aircraft or remote identification broadcast module was designed and produced to meet the respective minimum performance requirements for a standard remote identification unmanned aircraft or remote identification broadcast module by using an FAA-accepted means of compliance.

(8) A statement that 47 CFR part 15-compliant radio frequency equipment is used and is integrated into the standard remote identification unmanned aircraft or remote identification broadcast module without modification to its authorized radio frequency parameters. For the remote identification broadcast module, the declaration must include a statement that instructions have been provided for installation of the 47 CFR part 15-compliant remote identification broadcast module without modification to the broadcast module's authorized radio frequency parameters.

The FAA will indicate acceptance or non-acceptance of a declaration of compliance by notifying the submitter. The FAA will also publish a list of accepted declarations of compliance at https://uasdoc.faa.gov.

A person or entity who submits a declaration of compliance that is accepted by the FAA must retain the following information for as long as the standard remote identification unmanned aircraft or remote identification broadcast module listed on that declaration of compliance are produced, plus an additional 24 calendar months: (1) the means of compliance, all documentation, and substantiating data related to the means of compliance used; (2) records of all test results; and (3) any other information necessary to demonstrate compliance with the means of compliance so that the standard remote identification unmanned aircraft or remote identification broadcast module meets the remote identification requirements and the design and production requirements of the final rule.

Labeling

The final rule requires a person responsible for the production of a standard remote identification unmanned aircraft or remote identification broadcast module to label each unmanned aircraft or broadcast module to show that it meets the remote identification requirements of the rule. The label must be in English and be legible, be prominently displayed, and permanently affixed to the unmanned aircraft or broadcast module.

For existing unmanned aircraft that are upgraded to have remote identification broadcast module capabilities integrated into the aircraft, the FAA envisions that the label would be affixed to the unmanned aircraft. In those instances, the producer may provide the label to the operator and instructions on how to affix them to the unmanned aircraft. Standard remote identification unmanned aircraft produced under a design or production approval issued under part 21 have to comply with the labeling requirements of part 21, as applicable.

The labeling requirement will assist the FAA in its oversight role because it provides an efficient means for an inspector to evaluate whether an operation is consistent with the remote identification requirements.

Respondents: The FAA website at https://uasdoc.faa.gov provides information about how to submit a means of compliance and also provides an online form for the submission of declarations of compliance. The FAA expects persons or organizations who develop standards that the FAA may accept as means of compliance for the production of standard remote identification unmanned aircraft or remote identification broadcast modules to submit those standards for review and acceptance by the FAA at 9-AVS-AIR-UASMOC@faa.gov. Persons responsible for the production of a standard remote identification unmanned aircraft or remote identification broadcast module can submit a declaration of compliance to the FAA using the online form at https://uasdoc.faa.gov. Producers of a standard remote identification unmanned aircraft or remote identification broadcast module must label the unmanned aircraft or broadcast module to show that it meets the Part 89 remote identification requirements.

Frequency: For means of compliance, on occasion. For declarations of compliance, on occasion. For labeling requirements, on occasion.

Estimated Average Burden per Response: For means of compliance, the FAA estimates an hourly burden of 12 hours to develop the means of compliance and 5 minutes to submit the information to the FAA. For declarations of compliance, the FAA estimates an hourly burden of 50 hours to collect the information required by the applicable means of compliance, and 15 minutes to fill out the online declaration of compliance form. For unmanned aircraft labels, the FAA estimates an hourly burden of 2 hours to design a label for a standard remote identification unmanned aircraft or remote identification broadcast module.

Estimated Total Annual Burden: For means of compliance, the FAA estimates a total of one means of compliance submitted per year for an annual burden of 12 hours. For declarations of compliance, the FAA estimates an average of 3 declarations of compliance per year per producer, for a total annual burden of 150.75 hours per producer. The FAA also estimates 433 total declarations of compliance submitted per year for an annual burden of 21,758.25 hours for all producers. For unmanned aircraft labels, the FAA estimates an average of 3 labels designed per year per producer, for a total annual burden of 6 hours per producer. The FAA also estimates 433 total labels developed per year for an annual burden of 866 hours.

Issued in Washington, DC, on November 16, 2023.
Joseph Morra,
Manager, Emerging Technologies Division, AFS-700.

[FR Doc. 2023-25745 Filed 11-20-23; 8:45 am]

BILLING CODE 4910-13-P